DEPARTMENT OF HEALTH AND HUMAN SERVICES

National Institutes of Health

Center for Scientific Review; Amended Notice of Meeting

Notice is hereby given of a change in the meeting of the Center for Scientific Review Special Emphasis Panel, October 15, 2013, 08:00 a.m. to October 16, 2013, 02:00 p.m., St. Gregory Hotel, 2033 M Street NW., Washington, DC 20036 which was published in the Federal Register on September 25, 2013, 78 FR 59040.

The meeting will be held at the Fairmont, 2401 M Street NW., Washington, DC 20037. The meeting will start on November 7, 2013 at 09:00 a.m. and end on November 8, 2013 at 05:00 p.m. The meeting is closed to the public.

Dated: October 29, 2013.
Melanie J. Gray,
Program Analyst, Office of Federal Advisory Committee Policy.

[FR Doc. 2013-26189 Filed 11-1-13; 8:45 am]

BILLING CODE 4140-01-P